ENVIRONMENTAL PROTECTION AGENCY

[FRL- 9793-8]

National Rivers and Streams Assessment 2008-009 Draft Report

AGENCY: Environmental Protection Agency (EPA).

ACTION: Notice of availability and request for comments.

SUMMARY: Notice is hereby given for a 45-day public review and comment period on the draft report of the National Rivers and Streams Assessment 2008-2009 (NRSA). The NRSA draft report describes the results of the nationwide probabilistic survey that was conducted in the summers of 2008 and 2009. EPA and its state/tribal partners looked at biological conditions in rivers and streams of the conterminous United States. The draft NRSA 2008-2009 report includes information on how the survey was implemented, what the findings were on a national and ecoregional scale, and future actions and challenges.

DATES: Comments must be received by 11:59 p.m. May 9, 2013.

ADDRESSES: Email your comments to nrsa-hq@epa.gov.

FOR FURTHER INFORMATION CONTACT: Alice Mayio, Assessment and Watershed Protection Division, Office of Water, Washington DC Phone: 202-566-1184; email: mayio.alice@epa.gov.

SUPPLEMENTARY INFORMATION: To better answer questions about the condition of waters across the country, EPA and its state and tribal partners have embarked on a series of surveys under the National Aquatic Resource Surveys (NARS) program. The draft NRSA 2008-2009 is the most recent in this series of surveys. The goals of the draft NRSA 2008-2009 are to:

• Generate scientifically valid and environmentally relevant information on the condition of the nation's river and stream resources

• Identify key stressors to river and stream health and explore their relative importance

• Establish baseline information for future trends assessment

Using a statistical survey design, sites were selected at random to represent the condition of the larger population of rivers and streams across the lower 48 states, from the largest “great rivers” to the smallest headwater streams. 1,924 sites were sampled.

The draft NRSA finds that 55% of the nation's river and stream miles do not support healthy biological communities when compared to least disturbed sites in similar ecological regions. Fair conditions are found in 23% of river and stream miles, while 21% are in good condition and support healthy aquatic communities. Of the stressors that were examined, phosphorus and nitrogen are the most widespread. Biological communities are at increased risk for poor condition when phosphorus and nitrogen levels are high. This is the first time a national monitoring study of the overall condition of rivers and streams has been conducted using a statistically-valid random sample approach.

The draft report has undergone State and EPA review. EPA, through this public review, is seeking comment on the information contained in the draft report, the reasonableness of the conclusions, and the clarity with which the information is presented. You may view and download the draft report from EPA's Web site at http://water.epa.gov/type/rsl/monitoring/riverssurvey/index.cfm.

Dated: March 14, 2013.
Nancy K. Stoner,
Acting Assistant Administrator for Water.

[FR Doc. 2013-06753 Filed 3-22-13; 8:45 am]

BILLING CODE 6560-50-P